POSTAL REGULATORY COMMISSION

[Docket No. CP2011-33; Order No. 1685]

Negotiated Service Agreement

AGENCY: Postal Regulatory Commission.

ACTION: Notice.

SUMMARY: The Commission is noticing a recent Postal Service filing concerning an amendment to Priority Mail Contract 46. This notice informs the public of the filing, invites public comment, and takes other administrative steps.

DATES: Comments are due: April 8, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Supplemental Information

IV. Ordering Paragraphs

I. Introduction

On March 28, 2013, the Postal Service filed notice that it has agreed to an amendment to the existing Parcel Return Service Contract 2 (Amendment), which was added to the competitive product list in this docket.¹ In its Notice, the Postal Service includes Attachment A, a redacted copy of the Amendment. It also filed the unredacted Amendment under seal.

¹ Notice of United States Postal Service of Amendment to Parcel Return Service Contract 2, With Portions Filed Under Seal, March 28, 2013 (Notice).

The Postal Service asserts that “[g]iven the current robust cost coverage of Parcel Return Service Contract 2, this amendment will not have a significant impact on the contract's cost coverage.” Id. at 1. It states that “the supporting financial documentation and financial certification initially provided in this docket remain applicable.” Id. It also seeks to incorporate by reference the Application for Non-Public Treatment originally filed in this docket for the protection of customer-identifying information that it has filed under seal. Id. The Amendment changes the price calculation section of the contract for the remainder of its term. Id. Attachment A at 1. The Postal Service intends for the Amendment to become effective on the first business day after the date that the Commission completes its review of the Notice. Id.

II. Notice of Filings

Interested persons may submit comments on whether the changes presented in the Postal Service's Notice are consistent with the policies of 39 U.S.C. 3632, 3633, or 3642, 39 CFR 3015.5, and 39 CFR part 3020, subpart B. Comments are due no later than April 8, 2013. The public portions of these filings can be accessed via the Commission's Web site (http://www.prc.gov).

The Commission appoints Pamela A. Thompson to serve as Public Representative in this docket.

III. Supplemental Information

The Postal Service states that “[g]iven the current robust cost coverage of Parcel Return Service Contract 2, this amendment will not have a significant impact on the contract's cost coverage.” It believes that “the supporting financial documentation and financial certification initially provided in this docket remain applicable.” Notice at 1.

The supporting financial documentation submitted in support of the original contract was filed on November 17, 2010.² The contract's costs, revenues, and prices have changed since that time. To allow the Commission to complete its regulatory review under applicable law and regulations, please provide updated financial documentation and financial certification regarding the amended contract's compliance with applicable law and regulations, including 39 U.S.C. 3632, 3633 and 39 CFR 3015.5. and 3015.7. This supplemental information is due no later than April 5, 2013.

² Request of the United States Postal Service to Add Parcel Return Service Contract 2 to Competitive Product List and Notice of Filing (Under Seal) of Contract and Supporting Data, November 17, 2010.

IV. Ordering Paragraphs

It is ordered:

1. The Commission shall reopen Docket No. CP2011-33 to consider the amendment to Parcel Return Service Contract 2.

2. Pursuant to 39 U.S.C. 505, Pamela A. Thompson is appointed to serve as an officer of the Commission (Public Representative) to represent the interests of the general public in these proceedings.

3. Comments by interested persons in these proceedings are due no later than April 8, 2013.

4. The supplemental information requested shall be filed no later than April 5, 2013.

5. The Secretary shall arrange for publication of this order in the Federal Register.

By the Commission.
Shoshana M. Grove,
Secretary.

[FR Doc. 2013-07787 Filed 4-3-13; 8:45 am]

BILLING CODE 7710-FW-P